DEPARTMENT OF HOMELAND SECURITY

U.S. Customs and Border Protection

Notice of Revocation of Customs Broker's License

AGENCY: U.S. Customs and Border Protection, Department of Homeland Security.

ACTION: Customs broker's license revocation.

SUMMARY: This document provides notice of the revocation of a customs broker's license.

SUPPLEMENTARY INFORMATION: This document provides notice that, pursuant to section 641 of the Tariff Act of 1930, as amended (codified at 19 U.S. Code 1641), and section 111.30(d) of title 19 of the Code of Federal Regulations (19 CFR 111.30(d)), the following customs broker's license is revoked by operation of law without prejudice for failure to file a triennial status report.

Company name | License No. | Port of issuance
Brian D. Stacy | 21354 | Seattle

Dated: January 22, 2015.
Brenda Smith,
Assistant Commissioner, Office of International Trade.

[FR Doc. 2015-01439 Filed 1-26-15; 8:45 am]

BILLING CODE 9111-14-P